DEPARTMENT OF COMMERCE

International Trade Administration

[A-570-863]

Honey From The People's Republic of China: Initiation of New Shipper Antidumping Duty Review

AGENCY: Import Administration, International Trade Administration, Department of Commerce.

EFFECTIVE DATE: August 5, 2004.

FOR FURTHER INFORMATION CONTACT: Steve Williams at (202) 482-4619 or Jim Nunno at (202) 482-0783, respectively; Antidumping and Countervailing Duty Enforcement Group III, Import Administration, International Trade Administration, U.S. Department of Commerce, 14th Street and Constitution Avenue, NW., Washington, DC 20230.

SUPPLEMENTARY INFORMATION:

Background

The Department received a timely request from Foodworld International Club Limited (“Foodworld”) in accordance with 19 CFR 351.214 (c), for a new shipper review of the antidumping duty order on honey from The People's Republic of China (“PRC”), which has a December annual anniversary month and a June semiannual anniversary month. See Notice of Amended Final Determination of Sales at Less Than Fair Value and Antidumping Duty Order; Honey from The People's Republic of China, 66 FR 63670 (December 10, 2001). Foodworld identified itself as the exporter of honey produced by its producer Anhui Tianxin Bee Products Co., Ltd. (“Anhui Tianxin”). As required by 19 CFR 351.214(b)(2)(i), (ii), and (iii)(A), Foodworld and Anhui Tianxin Bee Products each certified that they did not export honey to the United States during the period of investigation (“POI”), and that they have never been affiliated with any exporter or producer which exported honey during the POI. Furthermore, each company has also certified that their export activities are not controlled by the central government of the PRC, satisfying the requirements of 19 CFR 351.214(b)(2)(iii)(B). Pursuant to the Department's regulations at 19 CFR 351.214(b)(2)(iv), Foodworld submitted documentation establishing the date on which the subject merchandise was first entered for consumption in the United States, the volume of that first shipment, and any subsequent shipment and the date of the first sale to an unaffiliated customer in the United States.

On July 13, 2004 and July 16, 2004 the Department issued pre-initiation supplemental questionnaires to Foodworld to clarify company information submitted in their requests to the Department for a new shipper review. In Foodworld's supplemental questionnaire response, dated July 21, Foodworld adequately responded to the Department's request for clarification on Customs documents attached to Foodworld's new shipper review request. Foodworld also provided state incorporation documents for the importer of record at the Department's request.

The Department conducted Customs database queries to determine whether Foodworld's shipment had officially entered the United States via assignment of an entry date in the Customs database by the U.S. Customs and Border Protection (CBP). In addition, the Department confirmed through research in PIERS and State incorporation records that Foodworld International and the importer of record appear to be bona fide companies.

Scope

The merchandise under review is honey from the PRC. The products covered are natural honey, artificial honey containing more than fifty percent natural honey by weight, preparations of natural honey containing more than fifty percent natural honey by weight, and flavored honey. The subject merchandise includes all grades and colors of honey whether in liquid, creamed, comb, cut comb, or chunk form, and whether packaged for retail or in bulk form. The merchandise under review is currently classifiable under item 0409.00.00, 1702.90.90, and 2106.90.99 of the Harmonized Tariff Schedule of the United States (HTSUS). Although the HTSUS subheading is provided for convenience and customs purposes, the written description of the merchandise under review is dispositive.

Initiation of Review

In accordance with section 751(a)(2)(B) of the Act, as amended, and 19 CFR 351.214(d)(1), and based on information on the record, we are initiating a new shipper review for Foodworld. See Memoranda to the File through Edward C. Yang, “New Shipper Review Initiation Checklist,” dated July 30, 2004. We intend to issue the preliminary results of this review not later than 180 days after the date on which this review was initiated, and the final results of this review within 90 days after the date on which the preliminary results were issued.

Pursuant to 19 CFR 351.214(g)(1)(i)(A) of the Department's regulations, the period of review (“POR”) for a new shipper review initiated in the month immediately following the anniversary month will be the twelve-month period immediately preceding the anniversary month. Therefore, the POR for this new shipper review is:

Antidumping duty proceeding | Period to be reviewed
Exporter: Foodworld International Club Limited | 12/01/03-05/31/04
Producer: Anhui Tianxin Bee Products Co., Ltd |

It is the Department's usual practice in cases involving non-market economies to require that a company seeking to establish eligibility for an antidumping duty rate separate from the country-wide rate to provide evidence of de jure and de facto absence of government control over the company's export activities. Accordingly, we will issue a questionnaire to Foodworld, including a separate rates section. The review will proceed if the responses provide sufficient indication that Foodworld is not subject to either de jure or de facto government control with respect to their exports of honey. However, if Foodworld does not demonstrate their eligibility for a separate rate, then it will be deemed not separate from other companies that exported during the POI and the new shipper review will be rescinded.

In accordance with section 751(a)(2)(B)(iii) of the Act and 19 CFR 351.214(e), we will instruct the CBP to allow, at the option of the importer, the posting, until the completion of the review, of a single entry bond or security in lieu of a cash deposit for certain entries of the merchandise exported by Foodworld. Specifically, since Foodworld has identified Anhui Tianxin as the producer of the subject merchandise for the sale under review, we will instruct CBP to limit the bonding option only to entries of merchandise from Foodworld that were produced by Anhui Tiaxin Bee Products.

Interested parties that need access to proprietary information in this new shipper review should submit applications for disclosure under administrative protective orders in accordance with 19 CFR 351.305 and 351.306.

This initiation and notice are in accordance with section 751(a) of the Act (19 U.S.C. 1675(a)) and 19 CFR 351.214(d).

Dated: July 30, 2004.
Gary Taverman,
Acting Deputy Assistant Secretary for Import Administration, Group I.

[FR Doc. 04-17934 Filed 8-4-04; 8:45 am]

BILLING CODE 3510-DS-P